DEPARTMENT OF THE INTERIOR

Geological Survey

[GX16GC009PLSS00]

National Cooperative Geologic Mapping Program (NCGMP) and National Geological and Geophysical Data Preservation Program (NGGDPP) Advisory Committee

AGENCY: U.S. Geological Survey, Interior.

ACTION: Notice of annual meeting: Audio conference.

SUMMARY: Pursuant to Public Law 106-148, the NCGMP and NGGDPP Advisory Committee will hold an audio conference call on Thursday, September 22, 2016, from 9 a.m.-5 p.m. Eastern Standard Time. The Advisory Committee, comprising representatives from Federal agencies, State agencies, academic institutions, and private companies, shall advise the Director of the U.S. Geological Survey on planning and implementation of the geologic mapping and data preservation programs.

The Committee will hear updates on progress of the NCGMP toward fulfilling the purposes of the National Geological Mapping Act of 1992, as well as updates on the NGGDPP toward fulfilling the purposes of the Energy Policy Act of 2005.

Retraction: Please note that this meeting was originally scheduled for August 8, 2016 and a notice was published in the Federal Register, dated June 13, 2016. The original advertised date of this meeting is no longer accurate and the meeting has been postponed to September 22, 2016.

DATES: September 22, 2016, from 9 a.m.-5 p.m. Eastern Standard Time.

FOR FURTHER INFORMATION CONTACT: For the phone number and access code, please contact Michael Marketti, U.S. Geological Survey, Mail Stop 908, National Center, Reston, Virginia 20192, (703) 648-6976.

SUPPLEMENTARY INFORMATION: Meetings of the National Cooperative Geologic Mapping Program and National Geological and Geophysical Data Preservation Program Advisory Committee are open to the public.

Dated: July 25, 2016.
Michael J. Marketti,
Program Analyst, NCGMP.

[FR Doc. 2016-17882 Filed 7-27-16; 8:45 am]

BILLING CODE 4311-AM-P